DEPARTMENT OF COMMERCE

Patent and Trademark Office

Public User ID Badging

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before February 4, 2002.

ADDRESSES: Direct all written comments to Susan K. Brown, Records Officer, Office of Data Management, Data Administration Division, USPTO, Suite 310, 2231 Crystal Drive, Washington, DC 20231; by telephone at (703) 308-7400; or by electronic mail at susan.brown@uspto.gov.

FOR FURTHER INFORMATION CONTACT: Requests for additional information should be directed to Catherine Hollan, Manager, Public Search Facilities, USPTO, Room 2C04, 2021 South Clark Place, Arlington, VA 22202; by telephone at (703) 306-2608; or by electronic mail at chollan@uspto.gov.

SUPPLEMENTARY INFORMATION:

I. Abstract

The United States Patent and Trademark Office (USPTO) is required by 35 U.S.C. 41(i)(1) to maintain a Public Search Facility to provide patent and trademark collections for the public to search and retrieve information. The Public Search Facilities are maintained for public use with paper and automated search files and trained staff to assist searchers. The Public Search Facilities are available to everyone.

In order to maintain and control the patent and trademark collections so that the information is available to the public, the USPTO issues Public User ID badges to users who wish to use the Public Search Facilities. For many years, the USPTO issued paper User IDs, but the USPTO now uses an electronic badging database for the issuance of plastic ID badges.

The plastic ID badge shows a color photograph of the user, a bar-coded user number, and an expiration date. The badging system allows the USPTO to electronically store the information, which can be updated periodically. The ID system is designed to enable the USPTO to (a) identify users of patent and trademark documents, (b) confine user access to public areas, (c) locate and control access to patent and trademark documents, and (d) identify users of USPTO services.

The Public User ID badge enables the USPTO to accurately track use of the documents and to identify anyone misusing the search facilities. The USPTO uses the ID badges to identify, counsel, and sanction users who destroy, misfile, or remove documents from its collections, or who mishandle its equipment. The Public User ID also grants the public limited access to the non-public parts of the USPTO, such as the Examiner areas. To access these areas, users are required to wear a visible USPTO employee ID, a contractor ID, or a Public User ID. (The Public User ID badges enable the USPTO to immediately confirm a user's identity via an on-the-spot comparison with the color photograph on the badge.)

For its ID system, the USPTO collects the following mandatory identifying information: name and mailing address (as verified on a picture ID such as a driver's license), signature, and a digital photograph of the user that is taken by USPTO staff. Optional information includes telephone number and USPTO Attorney Registration Number, if any.

II. Method of Collection

The application for the Public User ID is completed on site and handed to a staff member to enter into the system and issue the badge.

III. Data

OMB Number: 0651-0041.

Form Number(s): PTO-2030.

Type of Review: Extension of a currently approved collection.

Affected Public: Individuals or households; businesses or other for-profits; not-for-profit institutions; farms; the Federal Government; and state, local or tribal governments.

Estimated Number of Respondents: 9,084 responses per year.

Estimated Time Per Response: The USPTO estimates that it will take the public approximately five minutes (.08 hours) to gather the necessary information, prepare the form, and submit the completed application for a Public User ID or to renew the Public User ID Badge, and approximately ten minutes (.17 hours) to supply any optional information to the staff, have the photograph taken, and be issued the Public User ID Badge.

Estimated Total Annual Respondent Burden Hours: 1,054 hours per year.

Estimated Total Annual Respondent Cost Burden: $109,616 per year. The USPTO estimates that of those users requesting Public User IDs, approximately 1/3 of the users will be attorneys and 2/3 will be paraprofessionals. Using the professional hourly rate of $252 per hour for associate attorneys in private firms and the paraprofessional hourly rate of $30 per hour, the average hourly rate for all respondents to this collection will be $104 per hour.

Item | Estimated time for response (minutes) | Estimated annual responses | Estimated annual burden hours
Application for Public User ID | 5 | 3,642 | 291
Issue Public User ID Badge | 10 | 3,642 | 619
Renew Public User ID Badge | 5 | 1,800 | 144
Total |  | 9,084 | 1,054

Estimated Total Annual Nonhour Respondent Cost Burden: $0. (There are no capital start-up or maintenance costs or filing fees associated with this information collection.)

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: November 26, 2001.
Susan K. Brown,
Records Officer, USPTO, Office of Data Management, Data Administration Division.

[FR Doc. 01-30212 Filed 12-5-01; 8:45 am]

BILLING CODE 3510-16-P